ENVIRONMENTAL PROTECTION AGENCY

[EPA-HQ-OPP-2022-0164; FRL-10521-01-OCSPP]

Datawiz Corporation, DMI and WIPRO; Transfer of Data

AGENCY: Environmental Protection Agency (EPA).

ACTION: Notice.

SUMMARY: This notice announces that pesticide and chemical related information submitted to the Environmental Protection Agency (EPA) pursuant to the Federal Insecticide, Fungicide, and Rodenticide Act (FIFRA), the Federal Food, Drug, and Cosmetic Act (FFDCA), and the Toxic Substances Control Act (TSCA), including information that may have been claimed as Confidential Business Information (CBI) by the submitter, will be transferred to Datawiz Corporation and its subcontractors, DMI and WIPRO, in accordance with the CBI regulations governing the disclosure of potential CBI. Datawiz Corporation and its subcontractors, DMI and WIPRO, have been awarded a contract to perform work for the EPA Office of Chemical Safety and Pollution Prevention (OCSPP), and access to this information will enable Datawiz Corporation and its subcontractors, DMI and WIPRO, to fulfill the obligations of the contract.

DATES: Access to this information by Datawiz Corporation and its subcontractors, DMI and WIPRO, will begin on or before January 3, 2023 and is expected to continue during the term the contract.

FOR FURTHER INFORMATION CONTACT: William Northern, Information Technology and Resources Management Division (7502P), Office of Program Support, Office of Chemical Safety and Pollution Prevention, Environmental Protection Agency, 1200 Pennsylvania Ave. NW, Washington, DC 20460-0001; telephone number: (202) 566-1493 email address: northern.william@epa.gov.

SUPPLEMENTARY INFORMATION:

I. Does this action apply to me?

This action applies to the public in general. As such, the Agency has not attempted to describe all the specific entities that may be affected by this action.

II. What action is the Agency taking?

Under EPA contract number GS-35F-0059S/BPA-68HERD22A0006, the contractor, Datawiz Corporation, and its subcontractors, DMI and WIPRO, will perform Information Technology Services to support OCSPP's Information Management Systems. These services will enhance the use of OCSPP chemical information and associated project and program plan through effective data management. This includes maintaining and equipping OCSPP with knowledge and tools that enable efficient analysis, assessment, evaluation, and decision-making, as well as managing the new development projects using an Agile Development methodology and CMMI Level III best practices.

OCSPP has determined that Datawiz Corporation and its subcontractors, DMI and WIPRO, requires access to all pesticide and chemical related information submitted to EPA under FIFRA, FFDCA and TSCA to perform successfully the duties specified under the contract. Some of this information may be claimed or determined to be CBI.

In accordance with the requirements of 40 CFR 2.307(h)(2), the contract with Datawiz Corporation and its subcontractors, DMI and WIPRO, prohibits the use of the information for any purpose not specified in the contract; prohibits disclosure of the information to a third party without prior written approval from the Agency; and requires that each official and employee of the contractor and subcontractors sign an agreement to protect the information from unauthorized release and to handle it in accordance with applicable procedures and requirements associated with handling information that may be claimed or determined to be CBI (i.e., pursuant to the FIFRA and TSCA Information Security Manuals and 40 CFR part 2). In addition, Datawiz Corporation, and its subcontractors, DMI and WIPRO, are required to submit for EPA approval a security plan detailing how information claimed or determined to be CBI will be secured and protected against unauthorized release or compromise. No information will be provided to Datawiz Corporation and its subcontractors, DMI and WIPRO, until the requirements in the approved security plan have been fully satisfied. Records of information provided to Datawiz Corporation and its subcontractors, DMI and WIPRO, will be maintained by the EPA Project Officers for this contract. All information supplied to Datawiz Corporation and its subcontractors, DMI and WIPRO, by EPA for use in connection with this contract will be returned to EPA when Datawiz Corporation and its subcontractors, DMI and WIPRO, have completed their work.

Access to this information, including any information that may be claimed or determined to be CBI, will continue for the duration of the contract without further notice, including during any contract extensions.

Authority: 7 U.S.C. 136 et seq.; 15 U.S.C. 2601 et seq.; and 21 U.S.C. 301 et seq.

Dated: December 19, 2022.
Delores Barber,
Director, Information Technology and Resources Management Division, Office of Program Support.

[FR Doc. 2022-28046 Filed 12-23-22; 8:45 am]

BILLING CODE 6560-50-P